DEPARTMENT OF COMMERCE

National Oceanic and Atmospheric Administration

[I.D. 021301E]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of its Snapper Grouper Committee, Spiny Lobster Committee, Marine Reserves Committee, Advisory Panel Selection Committee (Closed Session), Highly Migratory Species Committee, and Shrimp Committee. The Council will also hold joint meetings of the Snapper Grouper Committee and the Wreckfish Advisory Panel, Controlled Access Committee and the Rock Shrimp Advisory Panel, and a joint meeting of the Executive and Finance Committees. There will also be a full Council Session. Public comment periods will be held during some of the meetings.

DATES: The meetings will be held in March 2001. See SUPPLEMENTARY INFORMATION for specific dates and times.

ADDRESSES: The meetings will be held at the Jekyll Island Club Hotel, 371 Riverview Drive, Jekyll Island, GA 31527; Telephone: 800-535-9547 or 912-635-2600, Fax: 912-635-2818.

Copies of the documents are available from Kim Iverson, Public Information Officer, South Atlantic Fishery Management Council, One Southpark Circle, Suite 306, Charleston, SC 29407-4699.

FOR FURTHER INFORMATION CONTACT: Kim Iverson, Public Information Officer; telephone: 843-571-4366; fax: 843-769-4520; email: kim.iverson@noaa.gov.

SUPPLEMENTARY INFORMATION:

Meeting Dates

1. Snapper Grouper Committee Meeting: March 5, 2001, 1:30 p.m. to 5:30 p.m.

A public scoping meeting on Amendment 13 to the Snapper Grouper FMP addressing permit transfers, SFA provisions, and Section 7 consultation will be held beginning at 1:30 p.m. A document regarding this issue is available from the Council office (see ADDRESSES).

Immediately following the public comment period, the Snapper Grouper Committee will meet to review public hearing comments on the use of powerhead gear; develop recommendations for framework measures on the use of powerheads as appropriate; review the status of the peer review concerning red porgy assessment and projections, the stock status for snowy grouper and golden tilefish, and SFA issues; review the Snapper Grouper Assessment Group report and recommendations; and develop preliminary directions to staff as appropriate.

2. Joint Snapper Grouper Committee and Wreckfish Advisory Panel Meeting: March 6, 2001, 8:30 a.m. to 10:30 a.m.

The Snapper Grouper Committee will meet jointly with the Wreckfish Advisory Panel to develop recommendations for wreckfish TAC and wreckfish framework actions as needed.

3. Spiny Lobster Committee Meeting: March 6, 2001, 10:30 a.m. to 12:00 noon.

A public scoping meeting will address issues in Amendment 7 including tailing permits and management structure. The Spiny Lobster Committee will meet to review a draft options paper for Amendment 7 to the Spiny Lobster FMP and develop recommendations. A document regarding this issue is available from the Council office (see ADDRESSES).

4. Marine Reserves Committee Meeting: March 6, 2001, 1:30 p.m. to 3:30 p.m.

The Marine Reserves Committee will meet to hear a report on Marine Protected Areas; the status of the Council's Memorandum of Understanding (MOU) with Gray's Reef National Marine Sanctuary; discuss any necessary updates to the NMFS White Paper on marine reserves; review a marine reserves pre-scoping document; and hear an update on the Gulf closed area lawsuit from NOAA General Counsel.

5. Advisory Panel Selection Committee Meeting (Closed Session): March 6, 2001, 3:30 p.m. to 5:30 p.m.

The Advisory Panel Selection Committee will meet to review membership applications and develop recommendations.

6. Highly Migratory Species Committee Meeting: March 7, 2001, 8:30 a.m. to 10:30 a.m.

The Highly Migratory Species Committee will meet to hear a presentation on NMFS' Highly Migratory Species (HMS) activities, review the status of the HMS and Billfish Advisory Panels, and discuss Council interaction with the NMFS's HMS program.

7. Shrimp Committee Meeting; March 7, 2001, 10:30 a.m. to 12:00 noon and 1:30 p.m. to 3:00 p.m.

A Public Scoping Meeting on Amendment 6 to the Shrimp FMP will be held beginning at 10:30 a.m. Items under consideration include permits, night time closures and trawl size restrictions. A scoping document is available from the Council office (see ADDRESSES). The Committee will establish sites for additional scoping meetings.

Beginning at 1:30 p.m., the Committee will discuss options for Amendment 6 and provide directions to staff. The Committee will also review the status of NMFS observer coverage for the rock shrimp fishery and the condition of over-wintering shrimp stocks and take action as appropriate.

8. Joint Controlled Access Committee and Rock Shrimp Advisory Panel Meeting: March 7, 2001, 3:00 p.m. to 5:00 p.m. and March 8, 2001, 8:30 a.m. to 10:30 a.m.

At the March 7 meeting, the Controlled Access Committee will meet jointly with the Rock Shrimp Advisory Panel (AP) to review the rock shrimp limited access options paper and develop advisory panel recommendations. A scoping document is available from the Council office (see ADDRESSES).

At the March 8 meeting, the Committee and the AP will develop recommendations for a draft amendment addressing limited entry and approve them for public hearing.

9. Joint Executive/Finance Committee Meeting: March 8, 2001, 10:30 a.m. to 12:00 noon

The Executive Committee will meet jointly with the Finance Committee to hear a report on the Chairmen's and Executive Director's budget meeting with NMFS, discuss staff proposals for additional funding, approve amending $65,000 into the current budget and discuss NMFS response on the Operations Plan.

10. Council Session: March 8, 2001, 1:30 p.m. to 5:00 p.m.

From 1:30 p.m. to 1:45 p.m., the Council will have a Call to Order, introductions and roll call, adoption of the agenda, and approval of the November/December 2000 meeting minutes.

From 1:45 p.m. to 2:30 p.m., the Council will hear a report from the Snapper Grouper Committee. Beginning at 1:45 p.m., a public comment period will be held to (1) address any proposed framework changes to the Snapper Grouper FMP addressing the use of powerhead gear by divers off the East Coast of Florida and (2) set the annual wreckfish TAC or other wreckfish framework actions. The Council will then make a decision on the framework actions. A framework document addressing these issues is available from the Council office (see ADDRESSES).

From 2:30 p.m. to 3:00 p.m., the Council will hear a report from the Shrimp Committee. Beginning at 2:30, a public comment period will be held on any proposed framework changes to the Shrimp FMP as a result of over-wintering shrimp mortalities. Following the comment period, the Council will decide on framework action. A document regarding this issue is available from the Council office (see ADDRESSES).

From 3:00 p.m. to 4:00 p.m., a Public Scoping Meeting will be held beginning at 3:00 p.m. to address (1) a coral framework action to establish additional Habitat Areas of Particular Concern and (2) the development of a comprehensive FMP amendment addressing permit renewal timeframes, operator permits, a consolidated controlled access system and the Atlantic Coast Cooperative Statistics Program's (ACCSP) permits and reporting. A scoping document addressing these issues is available from the Council office (see ADDRESSES).

From 4:00 p.m. to 4:15 p.m., the Council will hear a report from the Spiny Lobster Committee.

From 4:15 p.m. to 4:30 p.m., the Council will hear a report from the Marine Reserves Committee and make any required modifications to the MOU between the Council and Gray's Reef National Marine Sanctuary.

From 4:30 p.m. to 4:45 p.m., the Council will hear a report from the Highly Migratory Species Committee.

From 4:45 p.m. to 5:00 p.m., the Council will hear a report from the Controlled Access Committee and approve draft Amendment 5 to the Shrimp FMP, addressing rock shrimp limited access, for the public hearing.

From 5:00 p.m. to 5:30 p.m., the Council will hear a report on the joint meeting of the South Atlantic Fishery Management Council, Gulf of Mexico Fishery Management Council and the Caribbean Fishery Management Council regarding the Dolphin/Wahoo FMP and take any action required.

11. Council Session: March 9, 2001, 8:30 a.m. to 12:00 noon

From 8:30 a.m. to 9:00 a.m., the Council will hear a report from the Advisory Panel Selection Committee and appoint new advisory panel members (closed session).

From 9:00 a.m. to 9:15 a.m., the Council will hear a report from the joint Executive and Finance Committee and approve amending the $65,000 into the current budget.

From 9:15 a.m. to 10:15 a.m., the Council will discuss and make recommendations on potential changes to NMFS final rule regarding allowable gear.

From 10:15 a.m. to 10:30 a.m., the Council will hear an update on economic activities and issues.

From 10:30 a.m. to 10:45 a.m., the Council will hear an update on social activities and issues.

From 10:45 a.m. to 11:00 a.m., the Council will hear an update on the ACCSP.

From 11:00 a.m. to 11:15 a.m., the Council will hear a report on the Ecosystem Management Workshop.

From 11:15 a.m. to 11:30 a.m., the Council will hear status reports from NMFS on the: 2000/2001 Mackerel Framework, resubmitted Calico Scallop FMP, resubmitted Sargassum FMP, Golden Crab Amendment 3, and Dolphin Emergency Rule request. The Council will also hear NMFS status reports on landings for Atlantic king mackerel, Gulf king mackerel, Atlantic Spanish mackerel, snowy grouper & golden tilefish, wreckfish, greater amberjack and south Atlantic octocorals.

From 11:30 a.m. to 12:00 noon, the Council will hear agency and liaison reports, and discuss other business and upcoming meetings.

Although non-emergency issues not contained in this agenda may come before this Council for discussion, those issues may not be the subjects of formal Council action during this meeting. Council action will be restricted to those issues specifically listed in this notice and any issues arising after publication of this notice that require emergency action under section 305 (c) of the Magnuson-Stevens Act, provided the public has been notified of the Council’s intent to take final action to address the emergency.

Special Accommodations

These meetings are physically accessible to people with disabilities. Requests for sign language interpretation or other auxiliary aids should be directed to the Council office (see ADDRESSES) by February 26, 2001.

Dated: February 20, 2001.
Richard W. Surdi,
Acting Director, Office of Sustainable Fisheries, National Marine Fisheries Service.

[FR Doc. 01-4532 Filed 2-22-01; 2:43 pm]

BILLING CODE 3510-22 -S